DEPARTMENT OF THE INTERIOR

Fish and Wildlife Service

50 CFR Part 21

[Docket No. FWS-R9-MB-2012-0098; FF09M21200-134-FXMB1231099BPP0]

RIN 1018-AZ19

Migratory Bird Hunting and Permits; Regulations for Managing Harvest of Light Goose Populations

AGENCY: Fish and Wildlife Service, Interior.

ACTION: Final rule.

SUMMARY: We reduce the information collection requirements for participants in the light goose conservation order, which authorizes methods of take to increase harvest of certain populations of light geese in the Atlantic, Central, Mississippi, and Pacific Flyways, and to reduce the burden on State and tribal wildlife agencies that are required to submit annual light goose harvest reports to us. This action will eliminate reporting requirements that we believe to be unnecessary and will relieve requirements on individuals, States, and tribes.

DATES: This regulation change will be effective on April 15, 2015.

ADDRESSES: Document Availability: You may obtain a copy of the final environmental impact statement (EIS) on this management issue from our Web site at: http://www.fws.gov/migratorybirds/currentbirdissues/management/snowgse/tblcont.html, or by requesting one from the Division of Migratory Bird Management, U.S. Fish and Wildlife Service, 5275 Leesburg Pike, Mail Stop MB, Falls Church, VA 22041-3830.

FOR FURTHER INFORMATION CONTACT: James Kelley at 612-713-5409.

SUPPLEMENTARY INFORMATION:

Background

Under the Migratory Bird Treaty Act (MBTA), the U.S. Fish and Wildlife Service (Service) has the primary Federal responsibility for managing migratory birds. We implement the provisions of the MBTA through regulations in parts 10, 13, 20, 21, and 22 of title 50 of the Code of Federal Regulations (CFR).

In 1999, we established a conservation order at 50 CFR 21.60 to increase harvest of light geese and authorize new methods of take (64 FR 7517, February 16, 1999). We took this action because several populations of light geese were exceeding the carrying capacity of their breeding or migration habitats in the Central and Mississippi Flyways. A conservation order is a special management action that is needed to control certain wildlife populations when traditional management programs are unsuccessful in preventing overabundance of the population. We prepared an environmental impact statement (EIS) and record of decision to revise the regulations for the conservation order to include the Atlantic and Pacific Flyways (73 FR 65926, November 5, 2008).

The regulations include information collection and reporting requirements. Individuals participating in the order must provide information to State or Tribal wildlife agencies, and these agencies are required to submit annual light goose harvest reports to the Service. We have used this information to assess the effectiveness of light goose population control methods and strategies and to determine whether or not additional population control methods were needed. However, we now believe that sufficient information has been collected for these purposes since 2000, so on February 18, 2014, we published a proposed rule to change the information collection requirements of the conservation order (79 FR 9152-9156). We proposed to simplify but not eliminate all of these requirements, thus reducing the burden on individuals participating in the conservation order and on State and Tribal wildlife agencies.

Comments on the Proposed Rule

We received 10 comments on the proposed rule. Some commenters supported the proposed changes to the information collection requirements; others stated that the Service should not reduce or eliminate these requirements. Some commenters stated that sufficient information has been collected since 2000 to allow evaluation of the effectiveness of take methods for harvesting light geese and that the reduction in reporting requirements will reduce paperwork and respondent burdens. Some commenters provided comments outside the scope of the proposed rule, which sought input only on the information collection, and not on the control of light geese. Below we provide excerpts from some of these comments and our responses.

Comment: “I object to the government's attempts to waste our tax dollars on the pointless, unnecessary, unjustified and brutal killing of light goose populations. There is no study or scientific/biologic data that supports this plan. All goose populations can be managed and limited using humane and non-lethal methods. That is the only kind of management plan I support.

Furthermore, your goal to eliminate information collection & reporting requirements that you believe to be unnecessary is nothing more than an attempt to absolve yourselves of responsibility and remove all records of accountability so that you can continue to get away with unchecked killing and misuse of taxpayer funds whenever and wherever you want.”

Response: We documented the need for the control of light geese in our 2007 EIS. The effort was endorsed by national wildlife conservation organizations as a way to try to protect habitat for many migratory bird species in the Arctic.

We are not spending taxpayer dollars on this control, except to collect information about the harvest. Nor are we choosing the “convenience” of controlling light goose populations. As noted in our 2007 EIS, the burgeoning light goose population has seriously harmed nesting habitats in the Arctic for other migratory bird species.

We are not eliminating information collection. As we explained in the proposed rule, we are reducing the burden on States and tribes by not requiring collection and reporting of information not needed to assess the harvest of light geese.

Comment. “Limiting information requirements and eliminating information collection on the issue of killing our wildlife is deeply undemocratic (for people) and cruel (for populations targeted.)”

Response. We are not eliminating information collection; we are revising the collection so that we collect only needed information. It is the Service's job to address population issues such as the huge growth in the light goose population that continues to cause destruction of habitat in the Arctic for many other migratory bird species. We also try to minimize the information collection burden for other partners (such as States and Tribes) in wildlife management and for the public.

Comment. “I am for the update in regulations for managing the harvest of light goose. The information that was needed before to see find [sic] out if the proposed methods of population control of light geese is no longer needed. It has been proven that their [sic] has been a 26.7% increase in the harvest of light geese after the regular season using electronic calls and a 13.1% increase using unplugged shotguns in the Mississippi and Central flyways between 2000 and 2011. For example, “the number of light geese taken with the aid of an electronic call.” This requirement for data entry is no longer necessary because it has been proven that using electronic calls is a useful method of conservation over a term of eleven years. Majority of the data that was required to be recorded by the states that participated in the conservation order is no longer needed because enough data has been recorded to prove that using unplugged shotguns and electronic calls is a useful method on conservation.”

Comment. “I am against the proposed rule of Migratory Bird Hunting and Permits: Regulations for Managing Harvest of Light Goose Populations. The managing of the light goose population is necessary because we need to know how many there are and how many are killed each year. Letting hunters killing more of the light goose isn't a bad idea since there are not in danger of going extinct. The numbers show that they are fine . . . They still need to keep track of the numbers that are harvested that year to get an idea of how much are being harvested. Since the “Various populations of light geese have undergone rapid growth during the past 30 years, and have become seriously injurious to their habitat, habitat important to other migratory birds, and agricultural interests,” it is better to get the numbers lower than they are.”

Comment. “The purpose of this rule is to eliminate information that is no longer needed to be collected due to the amount that has been received. The information they have now gives a [sic] accurate data layout for future knowledge and so the unnecessary data gather [sic] should be dropped to save time and money for state and tribal agencies. I think this would be a [sic] efficient cutback since the information is no longer needed to be collected. The data that would be eliminated would not hinder the overall analysis of light goose [sic] taken. Numbers of light goose populations will still be collected and recorded with accurate read outs on their population. The information that hunters would have to submit would be lessened and make it easier on them. This rule would overall make a great cutback on taxes and time spent filling out paperwork that is no longer needed.”

Comment. “The Central Flyway Council . . . supports the proposal to reduce the information collection requirements for participants in the light goose conservation order, which authorizes methods of take to increase harvest of certain populations of light geese in the Atlantic, Central, and Mississippi Flyways, and to reduce the burden on State and tribal wildlife agencies that are required to submit annual light goose harvest reports to the Service. There is sufficient information collected since 2000 to allow evaluation [of] the effectiveness of these methods of take for harvesting light geese. The reduction in reporting requirement[s] will reduce paperwork and respondent burdens.”

Response to these comments. No response necessary.

Required Determinations

Regulatory Planning and Review—Executive Order 12866 and 13563

Executive Order 12866 provides that the Office of Information and Regulatory Affairs (OIRA) will review all significant rules. OIRA has determined that this rule is not significant.

Executive Order 13563 reaffirms the principles of Executive Order 12866 while calling for improvements in the Nation's regulatory system to promote predictability, to reduce uncertainty, and to use the best, most innovative, and least burdensome tools for achieving regulatory ends. Executive Order 13563 directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We developed this rule in a manner consistent with these requirements.

Regulatory Flexibility Act (5 U.S.C. 601 et seq.)

Under the Regulatory Flexibility Act (5 U.S.C. 601 et seq., as amended by the Small Business Regulatory Enforcement Fairness Act (SBREFA) of 1996 (Pub. L. 104-121)), whenever an agency is required to publish a notice of rulemaking for any proposed or final rule, it must prepare and make available for public comment a regulatory flexibility analysis that describes the effect of the rule on small businesses, small organizations, and small government jurisdictions. However, no regulatory flexibility analysis is required if the head of an agency certifies the rule would not have a significant economic impact on a substantial number of small entities.

SBREFA amended the Regulatory Flexibility Act to require Federal agencies to provide the statement of the factual basis for certifying that a rule would not have a significant economic impact on a substantial number of small entities. This regulation change will not have a significant economic impact on a substantial number of small entities, so a regulatory flexibility analysis is not required.

This rule will reduce the information collection requirements for participants in the light goose conservation order and reduce the burden on State and tribal wildlife agencies that are required to submit annual light goose harvest reports to us. It will have no impact on economic activities already associated with the light goose conservation order itself and, therefore, will not have an economic effect on any small entities.

This is not a major rule under the SBREFA (5 U.S.C. 804(2)). It will not have a significant impact on a substantial number of small entities.

a. This rule will not have an annual effect on the economy of $100 million or more.

b. This rule will not cause an increase in costs or prices for consumers, individual industries, Federal, State, Tribal, or local government agencies, or geographic regions.

c. This rule will not have effects on competition, employment, investment, productivity, innovation, or the ability of U.S.-based enterprises to compete with foreign-based enterprises.

Unfunded Mandates Reform Act

In accordance with the Unfunded Mandates Reform Act (2 U.S.C. 1501 et seq.), we have determined the following:

a. This rule will not affect small governments. A small government agency plan is not required.

b. This rule will not produce a Federal mandate. It is not a significant regulatory action.

Takings

This rule does not contain a provision for taking of private property. In accordance with Executive Order 12630, a takings implication assessment is not required.

Federalism

This rule does not have sufficient Federalism effects to warrant preparation of a federalism impact summary statement under Executive Order 13132. It will not interfere with any State's ability to manage itself or its funds. No economic impacts will result from the regulations change.

Civil Justice Reform

In accordance with Executive Order 12988, the Office of the Solicitor has determined that the rule does not unduly burden the judicial system and meets the requirements of sections 3(a) and 3(b)(2) of the Order.

Paperwork Reduction Act of 1995

This rule contains a collection of information that OMB has approved under the Paperwork Reduction Act of 1995 (44 U.S.C. 3501 et seq.). We may not conduct or sponsor and a person is not required to respond to a collection of information unless it displays a currently valid OMB control number.

OMB Control Number: 1018-0103.

Expiration Date: 3/31/2018.

Title: Conservation Order for Light Geese, 50 CFR 21.60.

Service Form Number(s): None.

Type of Request: Revision of a currently approved collection.

Description of Respondents: State and tribal governments; individuals who participate in the conservation order.

Respondent's Obligation: Required to obtain or retain a benefit.

Frequency of Collection: Annually.

Activity/requirement | Annual number of respondents | Total annual responses | Completion time per response | Total annual burden hours
States—collect information, maintain records, prepare annual report | 39 | 39 | 45 hours | 1,755
Participants—provide information to States | 21,538 | 21,538 | 8 minutes | 2,872
Total | 21,577 | 21,577 |  | 4,627

Estimated Annual Nonhour Burden Cost: $78,000, primarily for State and tribal overhead costs (materials, printing, postage, etc.).

We expect a maximum of 39 States and tribes to participate under the authority of the conservation order each year it is available. States and tribes must keep records of activities carried out under the authority of the conservation order. We believe that this recordkeeping requirement is necessary to ensure that those individuals carrying out control activities are authorized to do so. The States and tribes must submit an annual report summarizing the activities conducted under the conservation order. Reported information helps us to assess the effectiveness of light geese population control methods and strategies, and assess whether or not additional population control methods are needed. However, we believe that the number of elements in the information collection requirement can be reduced while maintaining a core of elements that allow us to monitor the number of participants in the conservation order and resulting harvest of birds. We have revised 50 CFR 21.60(f)(8) to require that information be collected only on the number of:

• Persons participating in the conservation order;

• Days people participated in the conservation order;

• Light geese shot and retrieved under the conservation order; and

• Light geese shot but not retrieved.

Each State and tribe determines how they collect data from participants. Though there is no common form or method, the States and tribes have shared their forms and there is commonality. Some States require participants to obtain a permit to participate in the conservation order; others do not. Post-harvest survey questions and questionnaire delivery methods differ among States and tribes. States measure harvest and hunter activity through the use of mail questionnaires, phone surveys, hunter diaries, online data entry, and so forth. Differences also exist within similar survey types, such as the proportion of participants surveyed and the type and number of followup contacts.

During the proposed rule stage, we solicited comments on the new information collection requirements. We received several comments that addressed information collection. Most conflated the information collection and control of overabundant light geese. We did not change our requirements based on these comments. Several of the comments only noted that we proposed to change the information collection. We have addressed all comments in the preamble above.

The public may comment at any time on the accuracy of the information collection burden in this rule and may submit any comments to the Information Collection Clearance Officer, U.S. Fish and Wildlife Service, Department of the Interior, 1849 C Street NW., (Mailstop BPHC), Washington, DC 20240.

National Environmental Policy Act

We have analyzed this rule in accordance with the National Environmental Policy Act (NEPA), 42 U.S.C. 432-437(f) and Part 516 of the U.S. Department of the Interior Manual (516 DM). The regulations change would simply remove unused regulations, and is administrative in nature. The action is categorically excluded from further NEPA consideration by 43 CFR 46.210(i).

Socioeconomic. The regulations change would have no discernible socioeconomic impacts.

Migratory bird populations. The regulations change would not affect native migratory bird populations.

Endangered and Threatened Species. The regulation change would not affect endangered or threatened species or habitats important to them.

Endangered Species Act

Section 7(a)(2) of the Endangered Species Act (ESA), as amended (16 U.S.C. 1531-1543; 87 Stat. 884) provides that “Each Federal agency shall, in consultation with and with the assistance of the Secretary, insure that any action authorized, funded, or carried out . . . is not likely to jeopardize the continued existence of any endangered species or threatened species or result in the destruction or adverse modification of [critical] habitat. . . .” We previously completed section 7 consultation under the ESA for the rule that authorized the light goose regulations (73 FR 65926, November 5, 2008). This rule will only affect information collection and reporting requirements, so a section 7 consultation is not needed.

Energy Effects—Executive Order 13211

Executive Order 13211 requires agencies to prepare Statements of Energy Effects when undertaking certain actions. This rule is not a significant regulatory action under Executive Order 13211, and will not adversely affect energy supplies, distribution, or use. This action is not a significant energy action, so no Statement of Energy Effects is required.

Government-to-Government Relationship With Tribes

In accordance with the President's memorandum of April 29, 1994, “Government-to-Government Relations With Native American Tribal Governments” (59 FR 22951), Executive Order 13175, and 512 DM 2, we have determined that this rule has very little effect on federally recognized Indian tribes because few participate in the order.

List of Subjects in 50 CFR Part 21

Exports, Hunting, Imports, Reporting and recordkeeping requirements, Transportation, Wildlife.

Regulation Promulgation

For the reasons stated in the preamble, we hereby amend part 21, of subchapter B, chapter I, title 50 of the Code of Federal Regulations, as set forth below:

PART 21—[AMENDED]

1. The authority citation for part 21 continues to read as follows:

Authority: 16 U.S.C. 703-712.

2. Amend § 21.60 by revising paragraph (f)(8) to read as follows:

§ 21.60 Conservation order for light geese.

* * * * *

(f) * * *

(8) States and tribes must keep annual records of activities carried out under the authority of the conservation order. Specifically, information must be collected on:

(i) The number of persons participating in the conservation order;

(ii) The number of days people participated in the conservation order;

(iii) The number of light geese shot and retrieved under the conservation order; and

(iv) The number of light geese shot but not retrieved.

* * * * *

Dated: February 2, 2015.
Michael J. Bean,
Principal Deputy Assistant Secretary for Fish and Wildlife and Parks.

[FR Doc. 2015-05977 Filed 3-13-15; 8:45 am]

BILLING CODE 4310-55-P